NATIONAL TRANSPORTATION SAFETY BOARD

Sunshine Act Meeting

TIME AND DATE: 9:30 a.m., Tuesday, May 14, 2013.

PLACE: NTSB Conference Center, 429 L'Enfant Plaza SW., Washington, DC 20594.

STATUS: The two-item meeting is open to the public.

MATTERS TO BE CONSIDERED:

8482 Safety Report—Reaching Zero: Actions to Eliminate Alcohol-Impaired Driving

8417A Marine Accident Report—Allision of the Cargo Vessel M/V Delta Mariner with Eggner's Ferry Bridge, Tennessee River near Aurora, Kentucky, January 26, 2012

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Friday, May 10, 2013.

The public may view the meeting via a live or archived Webcast by accessing a link under “News & Events” on the NTSB home page at www.ntsb.gov.

Schedule updates, including weather-related cancellations, are also available at www.ntsb.gov.

FOR MORE INFORMATION CONTACT: Candi Bing, at (202) 314-6403 or by email at bingc@ntsb.gov.

FOR MEDIA INFORMATION CONTACT: Peter Knudson, at (202) 314-6100 or by email at peter.knudson@ntsb.gov for the Safety Report—Reaching Zero: Actions to Eliminate Alcohol-Impaired Driving and Terry Williams, at (202) 314-6100 or by email at terry.williams@ntsb.gov for the Marine Accident Report—Allision of the Cargo Vessel M/V Delta Mariner.

Dated: April 26, 2013.
Candi R. Bing,
Federal Register Liaison Officer.

[FR Doc. 2013-10251 Filed 4-26-13; 4:15 pm]

BILLING CODE 7533-01-P